DEPARTMENT OF LABOR

Office of the Secretary

Report to Congress and the Office of Management and Budget Regarding the Review Financial Assistance and the Requirements of Buy America

ACTION: Notice of report.

SUMMARY: The report indicates that the Department has not identified any programs that are inconsistent with Buy America requirements of section 70914 of the Act. The report identifies the YouthBuild program as the only Federal financial assistance program related to infrastructure and notes that the grant agreements for that program include the Buy America requirements.

DATES: The Acting Chief Financial Officer approved this report on January 14, 2022.

FOR FURTHER INFORMATION CONTACT: Dylan Sacchetti, 202.693.8105 or at 200 Constitution Ave. NW, Room S-4205, Washington, DC 20210.

SUPPLEMENTARY INFORMATION: The “Build America, Buy America Act,” which was included in the Infrastructure Investment and Jobs Act (the Act) (Pub. L. 117-58), requires under section 70913 that each Federal agency submit a report to the Office of Management and Budget (OMB) and to Congress, and publish it in the Federal Register, within 60 days of its enactment. In the report, Federal agencies are required to:

(1) Identify and evaluate all infrastructure programs to determine whether a program is inconsistent with section 70914 of the Act;

(2) identify all domestic content procurement preferences applicable to the Federal financial assistance program related to infrastructure;

(3) assess the applicability of the domestic content procurement preference requirements, including: (A) Section 313 of title 23, United States Code; (B) section 5323(j) of title 49, United States Code; (C) section 22905(a) of title 49, United States Code; (D) section 50101 of title 49, United States Code; (E) section 603 of the Federal Water Pollution Control Act (33 U.S.C. 1388); (F) section 1452(a)(4) of the Safe Drinking Water Act (42 U.S.C. 300j-12(a)(4)); (G) section 5035 of the Water Infrastructure Finance and Innovation Act of 2014 (33 U.S.C. 3 3914); (H) any domestic content procurement preference included in an appropriations Act; and (I) any other domestic content procurement preference in Federal law (including regulations);

(4) provide details on any applicable domestic content procurement preference requirement, including the purpose, scope, applicability, and any exceptions and waivers issued under the requirement; and

(5) include a description of the type of infrastructure projects that receive funding under the program, including information relating to: (A) The number of entities that are participating in the program; (B) the amount of Federal funds that are made available for the program for each fiscal year; and (C) any other information the head of the Federal agency determines to be relevant.

Report

The Department of Labor (the Department) did not receive appropriated funds under the Infrastructure Investment and Jobs Act (the Act).

The Department reviewed its infrastructure programs and has not identified any programs that are inconsistent with section 70914 of the Act.

The Department identified YouthBuild as a Federal financial assistance program related to infrastructure. YouthBuild is a youth training program that provides training and educational services to youth (16-24 years old) using construction and other techniques. This program receives approximately $90 million in annual funding. The Department's Employment and Training Administration awards approximately 65-80 grants each year. A small percentage of the funds is used by recipients to purchase building supplies for building and/or refurbishing houses. Since at least 2014, grant agreements for this program have contained the domestic content procurement preference requirement (i.e., the Buy American requirement.)

The Department applies the domestic content procurement preference requirement for YouthBuild, by including the following term in all grant agreements:

Pursuant to E.O. 14005, Ensuring the Future Is Made in All of America by All of America's Workers, the grant award recipient agrees to comply with all applicable Made in America Laws (as defined in the E.O.), including the Buy American Act at 41 U.S.C. 8301-8305. For the purposes of this award, the grant recipient is required to maximize the use of goods, products, and materials produced in, and services offered in, the United States, in accordance with the Made in America Laws. No funds may be made available to any person or entity (including as a contractor or subrecipient of the grant recipient) that has been found to be in violation of any Made in America Laws. “Made in America Laws” means all statutes, regulations, rules, and Executive Orders relating to Federal financial assistance awards or Federal procurement, including those that refer to “Buy America” or “Buy American,” that require, or provide a preference for, the purchase or acquisition of goods, products, or materials produced in the United States, including iron, steel, and manufactured goods offered in the United States. Made in America Laws include laws requiring domestic preference for maritime transport, including the Merchant Marine Act of 1920 (Pub. L. 66-261), also known as the Jones Act.

The Department does not have any additional information to provide relating to domestic content procurement preference requirements, including the purpose, scope, applicability and any exceptions and waivers issued under the requirement.

Signed on this day at Washington, DC, on this 14th day of January, 2022.
Kevin L. Brown,
Deputy Chief Financial Officer.

[FR Doc. 2022-01121 Filed 1-20-22; 8:45 am]

BILLING CODE 4510-7C-P